DEPARTMENT OF HOMELAND SECURITY

Coast Guard

[USCG 2006-25522]

Exercise of Authority To Require Pilots To Submit Annual Physical Examinations

ACTION: Notice.

SUMMARY: By this notice, the Coast Guard is exercising authority currently set forth in Coast Guard regulations to require all first class pilots on vessels greater than 1600 GRT, and other individuals who “serve as” pilots on certain types of vessels greater than 1600 gross registered tons (GRT), to provide a copy of their annual physical examination to the Coast Guard.

FOR FURTHER INFORMATION CONTACT: Mr. Stewart A. Walker, National Maritime Center. Phone: 202-493-1022, e-mail: Stewart.A.Walker@uscg.mil.

DATES: All first class pilots on vessels greater than 1600 GRT, and other individuals who “serve as” pilots on certain types of vessels greater than 1600 GRT (as described in SUPPLEMENTARY INFORMATION below), must submit a copy of their most recent annual physical examination to the Coast Guard on or before December 27, 2006. After that, pilots must submit a copy of their annual physical examination to the Coast Guard no later than 30 calendar days after completion of the physical examination each year. The annual physical examination must, by regulation, be completed within 30 calendar days of the anniversary date of the individual's most recent satisfactorily completed physical examination.

SUPPLEMENTARY INFORMATION: This notice implements the recommendation made the National Transportation Safety Board (NTSB), in their report on the 2003 allision of the Staten Island Ferry ANDREW J. BARBERI, that the Coast Guard require submission of annual pilot physicals. The Coast Guard agrees with the NTSB that it is not effective to require pilots to undergo annual physical examinations without an affirmative obligation for pilots to actually submit them to the Coast Guard for review.

Title 46 CFR 10.709 already requires that first class pilots on vessels of 1600 GRT or more provide the Coast Guard with a copy of their most recent annual physical examination upon request, and that this physical examination must meet the requirements specified in Title 46 CFR 10.205(d). This includes those individuals who “serve as” pilots in accordance with Title 46 CFR 15.812(b)(3) & (c). Individuals who “serve as” pilots on vessels of not more than 1600 GRT in accordance with 46 CFR 15.812(b)(2) do not have an annual physical examination requirement.

This document serves as the request, pursuant to the authority set forth in 46 CFR 10.709(e), that all first class pilots on vessels greater than 1600 GRT, and all other individuals who “serve as” pilots in accordance with 46 CFR 15.812(b)(3) & (c), provide a copy of their annual physical examination to the Coast Guard.

The report of physical examination should be submitted to the Regional Examination Center (REC) which issued the mariner's license. The report of physical examination will be reviewed by the Coast Guard in accordance with the standards in 46 CFR 10.205(d), as supplemented by the guidance contained in Navigation and Vessel Inspection Circular (NVIC) 2-98, “Physical Evaluation Guidelines for Merchant Mariner's Documents and Licenses” or any superseding NVIC revising or replacing NVIC 2-98.

The Coast Guard may initiate appropriate administrative action in the event any first class pilot—or any other individual “serving as” a pilot (as described above)—does not meet the physical examination requirements specified in 46 CFR 10.205(d), up to and including suspension or revocation of the mariner's credential in accordance with Title 46 CFR Part 5. The Coast Guard may also initiate appropriate administrative action, up to and including suspension or revocation of the mariner's credential in accordance with 46 CFR Part 5, if any first class pilot—or any other individual “serving as” a pilot (as described above)—fails to submit their annual physical examination to the Coast Guard.

Individuals with pilot licenses, pilot endorsements, master licenses and mate licenses (and individuals applying for those credentials) who do not in fact serve as a first class pilot or otherwise “serve as” a pilot in accordance with 46 CFR 15.812(b)(3) & (c) do not need to submit an annual physical examination to the Coast Guard pursuant to 46 CFR 10.709(e); however, these individuals must submit an annual physical examination before serving as a first class pilot or otherwise “serving as” a pilot in accordance with 46 CFR 15.812(b)(3) & (c).

Dated: September 21, 2006.
J. G. Lantz,
Director of National and International Standards, Assistant Commandant for Prevention.

[FR Doc. 06-8306 Filed 9-22-06; 4:33 pm]

BILLING CODE 4910-15-P